DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Survey of SAMHSA Grantees Involved with Coordination of HIV, Substance Abuse, Mental Health and Hepatitis Programs—New—SAMHSA's Office of the Administrator/Office of Policy Planning and Budget plans to request assistance in the development of criteria to evaluate best practices to coordinate HIV, substance abuse, mental health, and hepatitis programs through a survey of SAMHSA grantees involved with coordination of HIV, substance abuse, mental health, and hepatitis programs. These are grantees funded by the Centers for Substance Abuse Treatment and the Centers for Substance Abuse Prevention under programs which fund the coordination of services across one or more of the following areas: Substance abuse prevention or treatment, mental health, HIV, and hepatitis.

To date, there is a lack of consensus among federal agencies, state agencies, and local providers regarding what integration of services means, what it entails, and what constitutes a “best practice.” By 2004, SAMHSA will develop grant programs to evaluate the coordination of programs and services across substance abuse, mental health, HIV, and hepatitis. The inclusion of grantee opinions regarding criteria for the evaluation of coordination, current practices to evaluate coordination, and barriers which impede grantee evaluation of service coordination will be of tremendous value to SAMHSA as the agency develops the requirements for funding and future technical assistance programs. SAMHSA grantees are currently implementing programs to coordinate services and can provide invaluable advice to SAMHSA so that the evaluation of coordination is relevant for the improvement of future programs and services.

To gather grantee feedback, SAMHSA will conduct a one-time survey of grantees. Information will be gathered using a 16 question instrument developed to gather both quantitative and qualitative information. The survey will be distributed by email containing the web link to a website that will assure grantee confidentiality and reduce respondent or administrative burden related to responding to the survey. Grantees will be able to return the survey via email, fax, or mail. Grantees will be assured in writing that their survey responses will not be linked to their grantee organization. The following table summarizes the response burden for this survey.

Number of respondents | Responses per respondent | Burden per response (in hours) | Total burden hours
248 | 1 | .75 | 105

Send comments to Nancy Pearce, SAMHSA Reports Clearance Officer, Room 16-105, Parklawn Building, 5600 Fishers Lane, Rockville, MD 20857. Written comments should be received within 60 days of this notice.

Dated: May 21, 2003.
Richard Kopanda,
Executive Officer, SAMHSA.

[FR Doc. 03-13380 Filed 5-28-03; 8:45 am]

BILLING CODE 4162-20-P